DEPARTMENT OF THE INTERIOR

National Park Service

National Register of Historic Places; Notification of Pending Nominations

Nominations for the following properties being considered for listing in the National Register were received by the National Park Service before April 10, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by May 6, 2004.

Carol D. Shull,
Keeper of the National Register of Historic Places.

DISTRICT OF COLUMBIA

District of Columbia

Connecticut Avenue Bridge over Klingle Valley, Connecticut Avenue, NW over Klingle Valley, Washington, 04000448

Washington DC Radio Terminal, 4623 41 St. NW., Washington, 04000449

FLORIDA

Orange County

Tinker Field, 1610 W. Church St., Orlando, 04000456

KANSAS

Atchison County

Drimmel, John, Sr., Farm, 16339 290th Rd., Atchison, 04000452

Johnson County

Virginia School District #33, 71st St. and Clare Rd., Shawnee, 04000454

Marshall County

Westminster Presbyterian Church, 1275 Boswell Ave., Topeka, 04000453

Morris County

Jenkins Building, 101 W. Mackenzie St., White City, 04000451

Nemaha County

Nemaha County Jail and Sheriff's House, 113 N. 6th St., Seneca, 04000455

Sumner County

Smith, Edwin, House, 114 S. Jefferson, Wellington, 04000450

MICHIGAN

Calhoun County

Boys' Club Building, 115 West St., Battle Creek, 04000457

Kalamazoo County

Acres, The, 10036,10069,11090,11108 and 11185 Hawthorne Dr., Charleston Township, 04000458

Oshtemo Town Hall, 10 S. Eighth St., Oshtemo Charter Township, 04000459

MINNESOTA

Dakota County

St. Shefan's Romainia Orthodox Church, 350 5th Ave. N, South St. Paul, 04000461

MISSOURI

St. Louis County

Coldwater Cemetery, 15290 Old Halls Ferry Rd., Florissant, 04000462

MONTANA

Missoula County

McCormick Neighborhood Historic District, Roughly bounded by River Rd., S. 6th W, S. Orange St., and Bitterroot Line of the railroad, Missoula, 04000460

NORTH CAROLINA

Graham County

Cheoah Hydroelectric Development, (Tapoco Hydroelectric Project MPS) 1512 Tapoca Rd., NC 129, Robbinsville, 04000464

Santeetlah Hydroelectric Development, (Tapoco Hydroelectric Project MPS) Dam-Hwy NC 1247, Powerhouse-1277 Farley Branch Rd., Robbinsville, 04000466

Tapoco Lodge Historic District, (Tapoco Hydroelectric Project MPS) 14981 Tapoco Rd., Robbinsville, 04000465

Rowan County

Monroe Street School, 1100 West Monroe St., Salisbury, 04000463

NORTH DAKOTA

Kidder County

First Presbyterian Church of Steele, Mitchell Ave. N and First St., Steele, 04000467

PENNSYLVANIA

Chester County

Thomas Mill and Miller's House, (West Whiteland Township MRA) 130 W. Lincoln Hwy., West Whiteland, 04000468

SOUTH DAKOTA

Aurora County

Raesly House, Second and East Rd., Plankinton, 04000472

Smith, William P., House, 306 N. Third Ave., Stickney, 04000471

Dewey County

Dakota Club Library, (Federal Relief Construction in South Dakota MPS) Lot 4 Block 3 Main St., Eagle Butte, 04000474

Lake County

Goff, J. Whitney, Round Barn, (South Dakota's Round and Polygonal Barns and Pavilions MPS) 44520 236th St., Winfred, 04000469

Moody County

Pettigrew Barns, (South Dakota's Round and Polygonal Barns and Pavilions MPS) 309 East Broad, Flandreau, 04000473

Roberts County

Walla Lutheran Church, 46532 105th St., New Effington, 04000470

TENNESSEE

Rutherford County

Idler's Retreat, 112 Oak St., Smyrna, 04000475

VIRGINIA

Fairfax County

Oak Hill, 4716 Wakefield Chapel Rd., Annandale, 04000478

Grayson County

Bourne, Stephen G., House, 6707 Spring Valley Rd., Fries, 04000483

Cox, Dr. Virgil, House, 406 West Stuart Dr., Galax, 04000476

Isle Of Wight County

Saunders, Henry, House, 13009 East Windsor Blvd., Windsor, 04000479

Middlesex County

Prospect, 2847 Grey's Point Rd., Topping, 04000480

Northumberland County

Clifton, 49 Clifton Ave., Kimarnock, 04000477

Rockingham County

Contentment, 253 Contentment Ln., Mt. Crawford, 04000481

Virginia Beach Independent City

Murray, Thomas, House, 3425 S. Crestline Dr., Virginia Beach (Independent City), 04000482

A request for REMOVAL has been made for the following resource:

PENNSYLVANIA

Northumberland County

Victoria Theatre, 46 W. Independence St., Shamokin, 85002907

[FR Doc. 04-8966 Filed 4-20-04; 8:45 am]

BILLING CODE 4312-51-P